DEPARTMENT OF STATE

[Public Notice: 8949]

Executive Order 11423, as Amended; Notice of Receipt of Application for a Presidential Permit for the Columbus Land Port of Entry Replacement Facility on the U.S.-Mexico Border at Columbus, New Mexico, and Palomas, Chihuahua, Mexico

AGENCY: Department of State.

ACTION: Notice.

SUMMARY: The Department of State hereby gives notice that, on September 24, 2014, it received an application for a Presidential Permit to replace and expand the Columbus Land Port of Entry (LPOE) on the U.S.-Mexico Border at Columbus, New Mexico, and Palomas, Chihuahua, Mexico. The United States General Services Administration (GSA) filed this application. The Department of State's jurisdiction over this application is based upon Executive Order 11423 of August 16, 1968, as amended. As provided in E.O. 11423, the Department is circulating this application to relevant federal agencies for review and comment. Under E.O. 11423, the Department has the responsibility to determine, taking into account input from these agencies and other stakeholders, whether issuance of a Presidential Permit for the proposed replacement and expansion of this border crossing would serve the national interest. Interested members of the public are invited to submit written comments regarding this application on or before December 15, 2014 to the U.S.-Mexico Border Affairs Office, via email at WHA-BorderAffairs@state.gov or by mail at WHA/MEX—Room 3924, Department of State, 2201 C St. NW., Washington, DC 20520.

FOR FURTHER INFORMATION CONTACT: U.S.-Mexico Border Affairs Office, via email at WHA-BorderAffairs@state.gov; by phone at 202-647-9894; or by mail at WHA/MEX—Room 3924, Department of State, 2201 C St. NW., Washington, DC 20520.

SUPPLEMENTARY INFORMATION: The application and supporting documents are available for review in the Office of Mexican Affairs, Border Affairs Unit, Department of State, during normal business hours.

Dated: November 7, 2014.
Robin Matthewman,
Director, Office of Mexican Affairs, Department of State.

[FR Doc. 2014-27012 Filed 11-13-14; 8:45 am]

BILLING CODE 4710-29-P